DEPARTMENT OF COMMERCE

Bureau of Export Administration

Meeting With Interested Public on the Export of Agricultural Commodities to Cuba and the Export of Agricultural Commodities, Medicines and Medical Devices to Iran, Libya and Sudan

ACTION: Notice.

SUMMARY: The Bureau of Export Administration (BXA) will hold a meeting on July 26, 2001 for those companies and organizations that have an interest in exporting agricultural commodities to Cuba and agricultural commodities, medicines and medical devices to Iran, Libya and Sudan under the new procedures established in rules published on July 12, 2001 (66 FR 36676). U.S. Government officials will provide information at this meeting on how to apply for export of such items to these destinations.

Time & Date: The meeting will be held July 26, 2001 at 3 p.m.

Place: The meeting will be held at the U.S. Department of Commerce, Herbert C. Hoover Building, Main Auditorium, 14th Street between Pennsylvania Avenue and Constitution Avenue, NW., Washington, DC.

In order to prepare for those of you who plan to attend the meeting, please provide your name and company or organizational affiliation to fax numbers (202) 482-6088 or (202) 482-4094, Attn: TSRA Briefing, or call (202) 482-3283. For further information, please contact John Bolsteins at BXA on (202) 482-3283 or (202) 482-4252.

Status: This meeting will be open to the public.

SUPPLEMENTARY INFORMATION:

Background

On July 12, 2001, the Bureau of Export Administration published a rule in the Federal Register to implement certain provisions of the Trade Sanctions Reform and Export Enhancement Act (TSRA) of 2000. The TSRA requires the President to terminate existing U.S. unilateral agricultural and medical sanctions and also provides that the export of agricultural commodities, medicines and medical devices to designated terrorist countries be made in accordance with the licensing regime described in that Act. The Department of Commerce is implementing TSRA as it relates to exports of agricultural commodities to Cuba. The Department of the Treasury's Office of Foreign Assets Control (OFAC) is implementing TSRA as it relates to exports to Iran, Libya, and Sudan of agricultural commodities, medicines and medical devices that are not specifically identified on the CCL and are classified as EAR99. OFAC representatives will be available at the meeting to answer any questions related to OFAC's implementation of TSRA. These rules will go into effect on July 26, 2001.

Brian Nilsson,
Acting Director, Office of Strategic Trade and Foreign Policy Controls.

[FR Doc. 01-18558 Filed 7-23-01; 8:45 am]

BILLING CODE 3510-33-P